DEPARTMENT OF LABOR

Employment and Training Administration

Agency Information Collection Activities; Comment Request; Disaster Unemployment Assistance Activities Report

ACTION: Notice.

SUMMARY: The Department of Labor's (DOL) Employment and Training Administration (ETA) is soliciting comments concerning a proposed extension for the authority to conduct the information collection request (ICR) titled, “Disaster Unemployment Assistance Activities Report.” This comment request is part of continuing Departmental efforts to reduce paperwork and respondent burden in accordance with the Paperwork Reduction Act of 1995 (PRA).

DATES: Consideration will be given to all written comments received by August 7, 2023.

ADDRESSES: A copy of this ICR with applicable supporting documentation, including a description of the likely respondents, proposed frequency of response, and estimated total burden, may be obtained free by contacting Lea Clary by telephone at 202-693-3894 (this is not a toll-free number), TTY 1-877-889-5627 (this is not a toll-free number), or by email at Clary.Lea.R@dol.gov.

Submit written comments about, or requests for a copy of, this ICR by mail or courier to the U.S. Department of Labor, ETA, Office of Unemployment Insurance, DUA Program, Room S-4520, 200 Constitution Ave. NW, Washington, DC 20210; by email: Clary.Lea.R@dol.gov; or by fax (202) 693-3975.

FOR FURTHER INFORMATION CONTACT: Lea Clary by telephone at 202-693-3894 (this is not a toll-free number) or by email at Clary.Lea.R@dol.gov.

Authority: 44 U.S.C. 3506(c)(2)(A).

SUPPLEMENTARY INFORMATION: DOL, as part of continuing efforts to reduce paperwork and respondent burden, conducts a pre-clearance consultation program to provide the general public and Federal agencies an opportunity to comment on proposed and/or continuing collections of information before submitting them to the Office of Management and Budget (OMB) for final approval. This program helps to ensure requested data can be provided in the desired format, reporting burden (time and financial resources) is minimized, collection instruments are clearly understood, and the impact of collection requirements can be properly assessed.

This ICR seeks to extend PRA authority for the Disaster Unemployment Assistance Activities Report information collection. Sections 410 and 423 of the Robert T. Stafford Disaster Relief and Emergency Assistance Act provide for Disaster Unemployment Assistance (DUA) to eligible applicants who are unemployed as a direct result of a major disaster. State Workforce Agencies, through individual agreements with the Secretary of Labor, act as agents of the Federal Government in providing DUA. Form ETA 902 is a monthly report that a State submits on DUA program activities once the President declares a disaster. 20 CFR 625.19 and section 303(a)(6) of the Social Security Act (42 U.S.C. 503(a)(6)) authorize this information collection.

This information collection is subject to the PRA. A Federal agency generally cannot conduct or sponsor a collection of information, and the public is generally not required to respond to an information collection, unless it is approved by OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention 1205-0051.

Submitted comments will also be a matter of public record for this ICR and posted on the internet, without redaction. DOL encourages commenters not to include personally identifiable information, confidential business data, or other sensitive statements/information in any comments.

DOL is particularly interested in comments that:

• Evaluate whether the proposed collection of information is necessary for the proper performance of the functions of the Agency, including whether the information will have practical utility;

• Evaluate the accuracy of the Agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, (e.g., permitting electronic submission of responses).

Agency: DOL-ETA.

Type of Review: Extension without changes.

Title of Collection: Disaster Unemployment Assistance Activities Report.

Form: ETA 902, Disaster Unemployment Assistance Activities.

OMB Control Number: 1205-0051.

Affected Public: State, local, and Tribal governments.

Estimated Number of Respondents: 30.

Frequency: Monthly.

Total Estimated Annual Responses: 210.

Estimated Average Time per Response: 60 minutes.

Estimated Total Annual Burden Hours: 210 hours.

Total Estimated Annual Other Cost Burden: $0.

Brent Parton,
Acting Assistant Secretary for Employment and Training, Labor.

[FR Doc. 2023-12118 Filed 6-6-23; 8:45 am]

BILLING CODE 4510-FW-P